OFFICE OF GOVERNMENT ETHICS

Submission for OMB Review; Comment Request: Proposed Slightly Revised OGE Form 450 Executive Branch Confidential Financial Disclosure Report

AGENCY: Office of Government Ethics (OGE).

ACTION: Notice.

SUMMARY: The Office of Government Ethics has submitted a slightly revised version of its OGE Form 450 for confidential financial disclosure reporting under its existing executive branch regulations for review and three-year approval by the Office of Management and Budget (OMB) under the Paperwork Reduction Act.

DATES: Comments by the agencies and the public on this proposal are invited and should be received by August 21, 2002.

ADDRESSES: Comments should be sent to Mr. Joseph F. Lackey, Jr.,Office of Information and Regulatory Affairs, Office of Management and Budget, 725 17th Street, NW., Washington, DC 20503; Telephone: 202-395-7316.

FOR FURTHER INFORMATION CONTACT: Mary T. Donovan at the Office of Government Ethics; Telephone: 202-208-8000, ext. 1185; TDD: 202-208-8025; FAX: 202-208-8037. A copy of the proposed slightly revised OGE Form 450 and the rest of the OGE submission package to OMB may be obtained, without charge, by contacting Ms. Donovan.

SUPPLEMENTARY INFORMATION: The Office of Government Ethics has submitted a proposed slightly revised version of the OGE Form 450 Executive Branch Confidential Financial Disclosure Report for three-year approval (reclearance) by OMB under the Paperwork Reduction Act of 1995, 44 U.S.C. chapter 35. The OGE Form 450 (OMB control # 3209-0006) collects information from covered department and agency officials as required under OGE's executive branchwide regulatory provisions in subpart I of 5 CFR part 2634. The OGE Form 450 serves as the uniform report form for collection, on a confidential basis, of financial information required by the OGE regulation from certain new entrant and incumbent employees of the Federal Government executive branch departments and agencies in order to allow ethics officials to conduct conflict of interest reviews and to resolve any actual or potential conflicts found.

The basis for the OGE regulation and the report form is two-fold. First, section 201(d) of Executive Order 12674 of April 12, 1989 (as modified by Executive Order 12731 of October 17, 1990) makes OGE responsible for the establishment of a system of nonpublic (confidential) financial disclosure by executive branch employees to complement the system of public financial disclosure under the Ethics in Government Act of 1978 (the “Ethics Act”), as amended, 5 U.S.C. appendix. Second, section 107(a) of the Ethics Act, 5 U.S.C. appendix 107(a), further provides authority for OGE as the supervising ethics office for the executive branch of the Federal Government to require that appropriate executive agency employees file confidential financial disclosure reports, “in such form as the supervising ethics office may prescribe.” The current version of the OGE Form 450, adopted in 1999, together with the underlying OGE 5 CFR part 2634 executive branchwide financial disclosure regulation, issued in 1992 and modified at various times since, constitute the basic form OGE has prescribed for such confidential financial disclosure in the executive branch.

The changes to the OGE Form 450 that OGE is proposing at this time (as also referenced on the mark-up copy of the form) are updating the contact information to reflect recent OGE organizational changes, formally adding a Part I (Assets and Income) continuation page (which the fillable versions on OGE's Web site already incorporate), and the forthcoming adjustment to the thresholds for reporting of gifts and travel reimbursements for regular employee annual filers in Part V of the OGE Form 450. Currently these thresholds require the reporting of gifts and reimbursements totaling more than $260 from any one source during the annual reporting period, subject to a de minimis exclusion for any item valued at $104 or less (which is not counted toward the overall threshold). The thresholds will have to be adjusted sometime this year when the General Services Administration redefines “minimal value” under the Foreign Gifts and Decorations Act, 5 U.S.C. 7342(a)(5), for the three-year period 2002-2004. Currently, foreign gifts minimal value is set at $260 or less pursuant to 41 CFR 102-42.10 of GSA's regulations. Under section 102(a)(2)(A) and (B) of the Ethics Act, 5 U.S.C. appendix 102(a)(2)(A) and (B), the public financial disclosure reporting thresholds are pegged to any adjustment of minimal value over $250 (at the same time and by the same amount percentage). The Office of Government Ethics has extended the statutory thresholds to confidential financial disclosure reporting for the executive branch. See 5 CFR 2634.907(a)(3), so incorporating the reporting of gifts and reimbursements specified in 5 CFR 2634.304 for public reports but without amounts or values. Once GSA adjusts minimal value for foreign gifts, OGE will revise the gifts and reimbursements reporting thresholds of the OGE Form 450 and amend the underlying part 2634 regulation (public financial disclosure reporting would also be affected). The Office of Government Ethics will advise the departments and agencies of any such change, make the modified form available on its Web site, and coordinate with OMB on the paperwork and rulemaking aspects of the revision.

In addition, OGE has made proposed revisions to the form since publication of the first round paperwork notice (see below). The Office of Government Ethics is separately working on issuing its own proposed Privacy Act regulation and updating the OGE/GOVT-2 executive branchwide system of records notice (covering Confidential Statements of Employment and Financial Interests). As a result, the Privacy Act Statement, which includes paraphrases of the routine uses, on the proposed OGE Form 450 will need to be revised. As soon as possible, a summary of the anticipated changes relevant to that OGE Form 450 statement will be prepared for inclusion with the mark-up copy of the form as proposed for revision, which is available from OGE upon request. Once the new language in OGE's forthcoming Privacy Act regulation and systems notice is finalized (anticipated completion date is January 2003), OGE will request permission from OMB to modify the OGE Form 450 (with notice to OMB at that time) without further paperwork clearance even though the new wording will likely take effect after reclearance of the renewed form. As with the future gifts/reimbursements thresholds changes (see above), OGE will also advise the departments and agencies of the privacy statement changes, make the modified form available on the OGE Web site, and coordinate with OMB at that time.

The Office of Government Ethics will continue to make the OGE Form 450 available to departments and agencies and their reporting employees through the Forms, Publications & Other Ethics Documents section of OGE's Internet Web site (address: http://www.usoge.gov). This allows employees two different fillable options for preparing their report on a computer (in addition to a downloadable blank form), although a printout and manual signature of the form are still required unless specifically approved otherwise by OGE. Moreover, OGE also permits departments and agencies to develop or utilize their own electronic versions of the OGE Form 450 provided they precisely duplicate the paper original to the extent technically possible. While OGE sees no legal bar to electronic filing and electronic signatures for the OGE Form 450, agencies must meet the requirements of the Government Paperwork Elimination Act (GPEA) and other applicable laws and issues such as security, verification, non-repudiation, etc. Those agencies seeking to develop or utilize an electronic version of the OGE Form 450, and who have not so informed OGE, are asked to advise OGE's Deputy Director for Administration and Information Management of their intentions to do so and to provide assurance of their adherence to the previously mentioned requirements.

Moreover, since 1992 various departments and agencies have developed, with OGE review/approval, alternative reporting formats, such as certificates of no conflict, for certain classes of employees. Other agencies provide for additional disclosures pursuant to independent organic statutes and in certain other circumstances when authorized by OGE. In 1997, OGE itself developed the new OGE Optional Form 450-A (Confidential Certificate of No New Interests (Executive Branch)) for possible agency and employee use in certain years, if applicable. That optional form continues in use at various agencies. However, the OGE Form 450 remains the uniform executive branch report form for most of those executive branch employees who are required by their agencies to report confidentially on their financial interests. The OGE Form 450 is to be filed by each reporting individual with the designated agency ethics official at the executive department or agency where he or she is or will be employed.

Reporting individuals are regular employees whose positions have been designated by their agency under 5 CFR 2634.904 as requiring confidential financial disclosure in order to help avoid conflicts with their assigned responsibilities; under that section, all special Government employees (SGE) are also generally required to file. Agencies may, if appropriate under the OGE regulation, exclude certain regular employees or SGEs as provided in 5 CFR 2634.905. Reports are normally required to be filed within 30 days of entering a covered position (or earlier if required by the agency concerned), and again annually in the fall if the employee serves for more than 60 days in the position. As indicated in § 2634.907 of the OGE regulation, the information required to be collected includes assets and sources of income, liabilities, outside positions, employment agreements and arrangements, and gifts and travel reimbursements, subject to certain thresholds and exclusions.

Most of the persons who file this report form are current executive branch Government employees at the time they complete their report. However, some filers are private citizens who are asked to submit the report by the Senate committee considering their nomination for a PAS position (Presidential Appointment with Senate confirmation), or who are asked by their prospective agency to file a new entrant report prior to entering Government service in order to permit advance checking for any potential conflicts of interest and resolution thereof by agreement to recuse or divest, obtaining of a waiver, etc. Based on OGE's annual agency ethics program questionnaire responses for 1999, 2000, and 2001 (the figures for the latter year now being available), OGE estimates that an average of approximately 264,509 OGE Form 450 report forms will be filed each year for the next three years throughout the executive branch (some 4,000 less than estimated in the first round Federal Register notice when the 2001 figures were not yet available). This estimate is based on average number of report forms filed branchwide for 1999 through 2001 as indicated in the Questionnaire responses, some 271,834 in 1999, 265,053 in 2000, and 256,639 in 2001 for a total of 793,526 with that number then divided by three and rounded to give the projected annual average of 264,509 reports. Of these reports, OGE estimates that no more than between 5% and 10%, or some 13,225 to 26,451 per year at most, will be filed by private citizens, those potential (incoming) regular employees whose positions are designated for confidential disclosure filing as well as potential special Government employees whose agencies require that they file their new entrant reports prior to assuming Government responsibilities. No termination reports are required for the OGE Form 450.

Each filing is estimated to take an average of one-and-one-half hours. The number of private citizens whose reports are filed each year with OGE itself is less than 10, but pursuant to 5 CFR 1320.3(c)(4)(i), the lower limit for this general regulatory-based requirement is set at 10 private persons (OGE-processed reports). This yields an annual reporting burden of 15 hours, the same as in OGE's current OMB inventory for this information collection. The remainder of the private citizen reports are filed with other departments and agencies throughout the executive branch.

On March 18, 2002, OGE published its first round notice of the forthcoming request for paperwork clearance for the proposed slightly revised OGE Form 450. See 67 FR 12017-12018. The Office of Government Ethics did not receive any comments in response to that notice, though one agency requested a copy of the proposed form.

In this second notice, public comment is again invited on the proposed slightly revised OGE Form 450 as set forth in this notice, including specifically views on: the need for and practical utility of this proposed modified collection of information; the accuracy of OGE's burden estimate; the enhancement of quality, utility and clarity of the information collected; and the minimization of burden (including the use of information technology). The Office of Government Ethics, in consultation with OMB, will consider all comments received, which will become a matter of public record.

Approved: July 15, 2002.
Amy L. Comstock,
Director, Office of Government Ethics.

[FR Doc. 02-18343 Filed 7-19-02; 8:45 am]

BILLING CODE 6345-01-P